DEPARTMENT OF TRANSPORTATION

Federal Highway Administration

Environmental Impact Statement: Hidalgo County, Texas

AGENCY: Texas Department of Transportation (TxDOT), Federal Highway Administration (FHWA), Department of Transportation.

ACTION: Federal notice of intent to prepare an Environmental Impact Statement (EIS).

SUMMARY: Pursuant to 40 CFR 1508.22, FHWA, on behalf of TxDOT, is issuing this notice to advise the public that an EIS will be prepared for a proposed transportation project to construct State Highway (SH) 68 from Interstate (I)-2/United States Highway (US) 83 to I-69C/US 281 in Hidalgo County, Texas. Areas within the study area include the cities of Alamo, Pharr, Donna, Edinburg, San Juan, and San Carlos.

FOR FURTHER INFORMATION CONTACT: Homer Bazan, Jr., P.E., Director of Transportation Planning and Development—TxDOT Pharr District, 600 W. Interstate 2, Pharr, Texas, 78577; telephone: 956-702-6100; email: Homer.Bazan@txdot.gov. TxDOT's normal business hours are 8:00 a.m.-5:00 p.m., Monday through Friday.

SUPPLEMENTARY INFORMATION: The environmental review, consultation, and other actions required by applicable Federal environmental laws for this project are being, or have been, carried-out by TxDOT pursuant to 23 U.S.C. 327 and a Memorandum of Understanding dated December 16, 2014, and executed by FHWA and TxDOT. TxDOT will prepare an EIS for the proposed SH 68 from I-2/US 83 to I-69C/US 281, listed in the 2015—2040 Hidalgo County Metropolitan Transportation Plan as a 4-lane divided rural highway facility with the potential for main lanes and overpasses. There is no existing facility; therefore, the project is proposed on new location.

The purpose of the project is to improve north/south mobility, increase travel capacity for local and regional traffic, and provide an alternate north-south evacuation routes during emergency events. The project need is a lack of sufficient north/south mobility for local and regional traffic and for additional emergency evacuation routes, which are the result of historical and continuing growth in the region's population as well as continued growth of traffic in the region.

The significance of impacts for the proposed SH 68 project was initially uncertain, so the process began by preparing an environmental assessment (EA). Based on preliminary analysis and feedback from the public, it was determined that an EIS should be prepared. The EIS will incorporate information collected during the EA process; in addition, public input gathered during the development of the EA will be considered in the EIS process. The EIS will develop and evaluate a range of alternatives including “No-action” (the no-build alternative), Transportation System Management (TSM)/Transportation Demand Management (TDM), rapid transit and roadway build alternatives. The EIS will analyze potential direct, indirect and cumulative impacts from construction and operation of proposed corridor improvements including, but not limited to, the following: transportation impacts; air quality and noise impacts; water quality impacts including storm water runoff; impacts to waters of the United States including wetlands; impacts to floodplains; impacts to historic and archeological resources; impacts to threatened and endangered species; socioeconomic impacts including environmental justice communities; impacts to and/or potential displacements of land use, vegetation, residents and businesses; and impacts to aesthetic and visual resources.

Public involvement is a critical component of the project development process and will occur throughout the planning and study phases. Letters describing the proposed action including a request for comments will be sent to appropriate Federal, State, and local agencies and to private organizations and citizens who have previously expressed or are known to have interest in this proposal. Agency and public scoping meetings are planned for late 2015. The purpose of the public scoping meetings is to identify significant and other relevant issues related to SH 68 mobility improvements as part of the National Environmental Policy Act process. The scoping meetings will provide opportunities for participating agencies, cooperating agencies, and the public to be involved in review and comment on the draft coordination plan, defining the need and purpose for the proposed project, and the range of alternatives to be considered in the EIS. In addition to the agency and public scoping meetings, a public hearing will be held. Public notice will be given of the time and place of the meetings and hearing. To ensure that the full range of issues related to this proposed action is addressed and all significant issues are identified, comments and suggestions are invited from all interested parties. Such comments or questions concerning this proposed action should be directed to TxDOT at the address provided above.

(Catalog of Federal Domestic Assistance Program Number 20.205, Highway Planning and Construction. The regulations implementing Executive Order 12372 regarding intergovernmental consultation on Federal programs and activities apply to this program.)

Issued on: August 19, 2015.
Michael T. Leary,
Director, Planning and Program Development, Federal Highway Administration.

[FR Doc. 2015-20968 Filed 8-27-15; 8:45 am]

BILLING CODE 4910-22-P